DEPARTMENT OF DEFENSE

Department of the Army

Availability for Non-Exclusive, Exclusive, or Partially Exclusive Licensing of U.S. Patents and Patent Applications Concerning Bacterial Superantigen Vaccines

AGENCY: Department of the Army, DoD.

ACTION: Notice.

SUMMARY: In accordance with 37 CFR 404.6 and 404.7, announcement is made of the availability for licensing of U.S. Patent No. 6,399,332 entitled “Bacterial Superantigen Vaccines,” issued June 4, 2002; U.S. Patent No. 6,713,284 entitled “Bacterial Superantigen Vaccines,” issued March 30, 2004; U.S. Patent Application No. 10/757,687 entitled “Bacterial Superantigen Vaccines,” filed January 29, 2004, which is a divisional of U.S. Patent No. 6,713,284; and U.S. Patent Application No. 10/002,784 entitled “Bacterial Superantigen Vaccines,” filed November 26, 2001, which is a continuation in part of U.S. Patent No. 6,713,284. Foreign rights are also available (PCT/US98/16766 and PCT/US01/46540). The United States Government, as represented by the Secretary of the Army, has rights in this invention.

ADDRESSES: Commander, U.S. Army Medical Research and Material Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The present invention relates to genetically attenuated superantigen toxin vaccines altered such that superantigen attributes are absent, however the superantigen is effectively recognized and an appropriate immune response is produced. The attenuated superantigen toxins are shown to protect animals against challenge with wild type toxin. Methods of producing and using the altered superantigen toxins are described.

Brenda S. Bowen,
Army Federal Register Liaison Officer.

[FR Doc. 05-21068 Filed 10-20-05; 8:45 am]

BILLING CODE 3710-08-M